DEPARTMENT OF THE INTERIOR

Bureau of Land Management

[LLCOS00000 L13100000.EI0000 16X]

Notice of Public Meetings, Southwest Colorado Resource Advisory Council Oil and Gas Sub-Group

AGENCY: Bureau of Land Management, Interior.

ACTION: Notice of public meeting.

SUMMARY: In accordance with the Federal Land Policy and Management Act and the Federal Advisory Committee Act of 1972, the U.S. Department of the Interior, Bureau of Land Management (BLM) Southwest Resource Advisory Council (RAC) Oil and Gas Sub-Group is scheduled to meet as indicated below.

DATES: The Southwest RAC Oil and Gas Sub-Group meeting will be held on November 19, 2015, in Dolores, Colorado.

ADDRESSES: The Southwest RAC Oil and Gas Sub-Group meeting will be held November 19 at the Dolores Public Lands Office, 29211 Highway 184, Dolores, CO 81323. The meeting will begin at 10 a.m. and adjourn at approximately 12 p.m. A public comment period regarding matters on the agenda will be held at 11 a.m.

FOR FURTHER INFORMATION CONTACT: Barbara Sharrow, BLM Colorado Southwest District Acting District Manager, 970-240-5300; or Shannon Borders, Public Affairs Specialist, 970-240-5300; 2505 S. Townsend Ave., Montrose, CO 81401. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The Southwest RAC Oil and Gas Sub-Group identifies key priorities for the Southwest RAC to recommend to the Secretary of the Interior through the BLM. At this meeting, the sub-group will discuss the BLM's proposed Master Leasing Plan in western La Plata and eastern Montezuma counties. This meeting is open to the public. The public may present written comments to the sub-group. The meeting will also have time, as identified above, allocated for hearing public comments. Depending on the number of people wishing to comment and time available, the time for individual oral comments may be limited.

Ruth Welch,
BLM Colorado State Director.

[FR Doc. 2015-26693 Filed 10-20-15; 8:45 am]

BILLING CODE 4310-JB-P.